DEPARTMENT OF HOUSING AND URBAN DEVELOPMENT

[Docket No. FR-4912-N-02]

Notice of Availability of a Final Environmental Impact Statement for the Salishan Revitalization Project, City of Tacoma, WA

AGENCY: Office of the Assistant Secretary for Community Planning and Development, HUD.

ACTION: Notice.

SUMMARY: The Department of Housing and Urban Development gives notice to the public, agencies, and Indian tribes that a final Environmental Impact Statement for the Salishan Revitalization Project, City of Tacoma, WA will be available for a 30-day review period beginning today. This notice is given on behalf of the City of Tacoma, WA as the responsible entity for compliance with the National Environmental Policy Act (NEPA) in accordance with 24 CFR 58.4, and the City of Tacoma, WA jointly with the Tacoma Housing Authority (THA), and under their authority as lead agencies in accordance with the Washington State Environmental Policy Act (SEPA)(RCW 43.21). This notice advises that a NEPA/SEPA Final Environmental Impact Statement (FEIS) for the redevelopment of the Salishan housing project will be available. A NEPA Record of Decision (ROD) will be issued after the 30-day availability period. This notice is given in accordance with the Council on Environmental Quality Regulations at 40 CFR 1500-1508. The City of Tacoma's SEPA regulations (TMC 13.12.460 and TMC 13.12.680) provide a 14-day Hearing Examiner appeal period from the date of the issuance of the FEIS and a 15-day period from FEIS issuance limiting any land use action on the proposal (with a potential extension of the limitation on action as a result of any appeal). The NEPA review period and SEPA appeal period will run concurrently from the issuance of the FEIS.

DATES: Comments Due Date: Comments must be received by March 8, 2004. Comments are to be submitted to Karie Hayashi at the address below.

ADDRESSES: The FEIS is available on the Internet and can be viewed or downloaded at: http://govme.cityoftacoma.org/govme/panelBeta/permitInfo/LandUse/landUse. Hard copies of the FEIS are available from: Karie Hayashi, Land Use Administration Planner, City of Tacoma, 747 Market Street, Tacoma, Washington, 98402; e-mail: khayashi@cityoftacoma.org; phone: (253) 591-5387; fax: (253) 591-5433. The document can also be viewed at the following libraries: Pierce County Library, Main Branch, Tacoma Public Library, and the University of Washington, Tacoma Campus Library.

FOR FURTHER INFORMATION CONTACT: Karie Hayashi, Land Use Administration Planner, City of Tacoma, 747 Market Street, Tacoma, Washington 98402; Phone (253) 591-5387 fax: (253) 591-5433; e-mail: khayashi@cityoftacoma.org.

SUPPLEMENTARY INFORMATION: The Salishan Public Housing Development (Salishan) was originally constructed in 1942 as wartime housing. Located in what is known as the East Side neighborhood, Salishan is bordered on the west by Portland Avenue and on the east by Swan Creek. There are currently 786 housing units on the site and other related community/social service buildings.

In 2000, THA submitted a successful HOPE VI grant application for the redevelopment of Salishan. The amount of the HOPE VI grant awarded in connection with the Salishan revitalization project was $35 million. Under the proposed Revitalization Plan, existing housing will be demolished and Salishan will be redeveloped into a mixed-use, mixed-income community of approximately 1,270 to 1,500 units. The project will require the relocation of all existing residents. The new unit mix will incorporate low-income, affordable, and market rate housing with single- and multi-family dwellings, and senior and special needs housing. The redevelopment project will also include a mixture of commercial uses and improvements to community facilities such as expanding the existing health clinic, day care, family investment center, and gymnasium. Alternatives that were considered in the EIS included a no action alternative, a 1,270-unit alternative, and a 1,500-unit development. The FEIS identifies a Preferred Alternative (the 1,500-unit development), which was chosen following review of public and agency comments and the analysis in the Draft EIS.

Issuance of the FEIS will trigger a 30-day review period, after which a ROD will be issued. The issuance of the ROD will conclude a planning and environmental review process, which started with the notice of intent to prepare an EIS dated February 28, 2003. A 30-day scoping period was subsequently initiated and a public scoping meeting was held on March 19, 2003. The Draft EIS was made available for a 45-day comment period on September 5, 2003 (68 FR 52417). A public comment meeting to take oral comments on the Draft EIS was held on September 22, 2003.

Dated: January 28, 2004.
Roy A. Bernardi,
Assistant Secretary for Community Planning and Development.

[FR Doc. E4-182 Filed 2-4-04; 8:45 am]

BILLING CODE 4210-27-P